OFFICE OF THE UNITED STATES TRADE REPRESENTATIVE

Trade Policy Staff Committee: Seeking Resubmission of Any Comments from the Public Transmitted Prior to March 14, 2007 on the 2005 WTO Ministerial Decision on Duty-Free Quota-Free Market Access for the Least Developed Countries

AGENCY: Office of the United States Trade Representative.

ACTION: Request for resubmission of comments.

SUMMARY: The Trade Policy Staff Committee (TPSC) is advising the public of a technical malfunction in the e-mail address contained in the original notice requesting comments on considerations relating to the Decision that Members adopted at the Sixth Ministerial Conference of the World Trade Organization (WTO) in December 2005 on duty-free, quota-free (DFQF) market access for the least-developed countries (LDCs). The original notice was published on January 18, 2007 (Federal Register Volume 72, Number 11, pages 2316-2317). Any submission transmitted prior to March 14, 2007 was not received. The malfunction in the email address has been corrected and the TPSC is requesting the public to resubmit any written comments submitted prior to March 14, 2007.

DATES: Comments are due by April 15, 2007.

ADDRESSES: Submissions by electronic mail: FR0704@USTR.EOP.GOV. Submissions by facsimile: Gloria Blue, Executive Secretary, Trade Policy Staff Committee, at (202) 395-6143. The public is strongly encouraged to submit documents electronically rather than by facsimile. (See requirements for submissions below.)

FOR FURTHER INFORMATION CONTACT: General inquiries should be made to the USTR Office of WTO and Multilateral Affairs at (202) 395-6843; calls on individual subjects will be transferred as appropriate. Procedural inquiries concerning the public comment process should be directed to Gloria Blue, Executive Secretary, Trade Policy Staff Committee, Office of the U.S. Trade Representative (USTR), (202) 395-3475.

Written Submissions: Persons resubmitting comments may either send one copy by fax to Gloria Blue, Executive Secretary, Trade Policy Staff Committee, at (202) 395-6143 or transmit a copy electronically to FR0704@USTR.EOP.GOV, with “Duty-Free, Quota-Free” in the subject line. For documents sent by fax, USTR requests that the submitter provide a confirmation copy electronically. The public is strongly encouraged to submit documents electronically rather than by facsimile. USTR encourages the use of Adobe PDF format to submit attachments to an electronic mail. Interested persons who make submissions by electronic mail should not provide separate cover letters; information that might appear in a cover letter should be included in the submission itself. Similarly, to the extent possible, any attachments to the submission should be included in the same file as the submission itself, and not as separate files.

Comments should be submitted electronically no later than April 15, 2007.

Business confidential information will be subject to the requirements of 15 CFR 2003.6. Any business confidential material must be clearly marked as such and must be accompanied by a non-confidential summary thereof. A justification as to why the information contained in the submission should be treated confidentially should also be contained in the submission. In addition, any submissions containing business confidential information must clearly be marked “Business Confidential” at the top and bottom of the cover page (or letter) and each succeeding page of the submission. The version that does not contain business confidential information should also be clearly marked at the top and bottom of each page, “Public Version” or “Non-Confidential.”

Written comments submitted in connection with this request, except for information granted “business confidential” status pursuant to 15 CFR 2003.6 will be available for public inspection in the USTR Reading Room, Office of the United States Trade Representative. An appointment to review the file can be made by calling (202) 395-6186. The Reading Room is open to the public from 10 a.m. to 12 noon and from 1 p.m. to 4 p.m. Monday through Friday.

Dated: March 15, 2007.
Carmen C. Suro-Bredie,
Assistant USTR for Policy Coordination.

[FR Doc. E7-5032 Filed 3-19-07; 8:45 am]

BILLING CODE 3190-W7-P